NATIONAL SCIENCE FOUNDATION

Request for Public Comment: Draft South Pole Station Master Plan

AGENCY: National Science Foundation.

ACTION: Request for public comment.

SUMMARY: The National Science Foundation (NSF) Office of Polar Programs (OPP) is seeking public comment on the draft South Pole Station Master Plan, which can be found at https://www.nsf.gov/geo/opp/documents/SPSMP_Fed%20Reg%20Draft_NSF.pdf. This notice serves to replace the Federal Register notice published in the Federal Register on Monday, May 13, 2024.

DATES: Written comments must be submitted no later than June 17, 2024.

ADDRESSES: Email comments to SPMasterPlan@nsf.gov. Send written submissions to Michael Gencarelli, Office of Polar Programs, National Science Foundation, 2415 Eisenhower Avenue, Alexandria, VA 22314. Voicemails can be left by calling (703) 292-7419. Please limit voicemails to five minutes in length.

Instructions: Comments received electronically, including all attachments, must not exceed a 25-megabyte file size. Attachments to electronic comments will be accepted in Microsoft Word or Excel or Adobe PDF file formats only. NSF/OPP will review and consider all input received and revise the plan as necessary. When the final plan is released, comments and the commenters' names, along with responses, will become part of the public record and be made available on the NSF/OPP website. Do not submit confidential business information or otherwise sensitive or protected information. Comments sent by any other method, to any other address or individual, or received after the end of the comment period will not be considered. NSF/OPP acknowledges and is grateful for the time taken to provide comments.

FOR FURTHER INFORMATION CONTACT: Michael Gencarelli, Office of Polar Programs, National Science Foundation, 2415 Eisenhower Avenue, Alexandria, VA 22314; telephone 703-292-7419; or send email to SPMasterPlan@nsf.gov.

SUPPLEMENTARY INFORMATION: The Amundsen-Scott South Pole station is one of three year-round stations operated by the National Science Foundation (NSF) as outlined in Presidential Memorandum 6646. The South Pole is a unique research site that supports projects ranging from cosmic observations to seismic and atmospheric studies. The South Pole Station begins austral summer operations in October of each year. The station typically remains in summer operating mode until early February, at which point the eight-month long winter season begins.

Amundsen-Scott South Pole Station sits at the Earth's axis on a shifting continental ice sheet several miles thick. At an elevation of 2,835 meters (9,300 feet), the South Pole has an average monthly temperature in the austral summer of −28 °C (−18 °F); in the austral winter, the average monthly temperature is −60 °C (−76 °F).

The NSF Office of Polar Programs has identified the need for a South Pole Station Master Plan. The master plan looks at future infrastructure needs to support groundbreaking science at the South Pole, as well as phasing for implementation. NSF will consider input from the community before completing the final plan later this year. The final SPSMP will be posted online at www.usap.gov along with the existing Master Plans for NSF McMurdo Station and NSF Palmer Station.

Dated: May 13, 2024.
Suzanne H. Plimpton,
Reports Clearance Officer, National Science Foundation.

[FR Doc. 2024-10774 Filed 5-15-24; 8:45 am]

BILLING CODE 7555-01-P